SMALL BUSINESS ADMINISTRATION

Small Business Size Standards: Waiver of the Nonmanufacturer Rule; Correction

AGENCY: U.S. Small Business Administration.

ACTION: Notice: correction.

SUMMARY: The U.S. Small Business Administration (SBA) published a notice in the Federal Register on May 11, 2011, granting a class waiver of the Nonmanufacturer Rule for GEN II and GEN III Image Intensifier Tubes, Product Service Code (PSC) 5855, Night Vision Equipment under North American Industry Classification System (NAICS) code 333314 (Optical Instrument and Lens Manufacturing). In the Supplementary Information section of the notice, additional related items to be considered for waiver are referenced. The PVS-17 item was incorrectly identified and should be corrected to read PVS-7. The correction has no impact on the May 26, 2011, effective date of the waiver, as stated in the May 11, 2011, notice.

FOR FURTHER INFORMATION CONTACT: Ms. Amy Garcia, Procurement Analyst, by e-mail at amy.garcia@sba.gov, or by telephone at (202) 205-6842.

Correction

In the Federal Register of May 11, 2011, Vol 76, No. 91, on page 27373, in the second column, correct any item listed as PVS-17 to read: PVS-7.

John W. Klein,
Director, Office of Government Contracting.

[FR Doc. 2011-14952 Filed 6-15-11; 8:45 am]

BILLING CODE 8025-01-P